DEPARTMENT OF ENERGY

Federal Energy Regulatory Commission

[Docket No. CP02-429-000]

Enbridge Pipelines (AlaTenn) Inc.; Notice of Request Under Blanket Authorization

August 30, 2002.

Take notice that on August 23, 2002, Enbridge Pipelines (AlaTenn) Inc. (AlaTenn), 1100 Louisiana, Suite 3300, Houston, Texas 77002, filed in Docket No. CP02-429-000, a request pursuant to 157.205 and 157.211(a)(2) (18 CFR Sections 157.205 and 157.211(a)(2)) of the Commission's Regulations under the Natural Gas Act (NGA), for authorization to construct and operate a new delivery point facilities to serve an end-user in Madison County, Alabama under AlaTenn's blanket certificate issued in Docket No. CP85-359-000, all as more fully set forth in the application which is on file with the Commission and open to public inspection. This filing is available for review at the Commission in the Public Reference Room or may be viewed on the Commission's Web site at http://www.ferc.gov using the “FERRIS” link. Enter the docket number excluding the last three digits in the docket number field to access the document. For Assistance, call (202) 502-8222 or for TTY, (202) 208-1659.

Specifically, AlaTenn states that it is seeking authority to construct, own and operate new delivery point facilities on its existing 12-inch Mainline and 10-inch Loop Line to accommodate natural gas deliveries to Metal Working Products, a division of TDY Industries, Inc. (MWP), in Madison County, Alabama. AlaTenn states that MWP presently receives its natural gas service from Huntsville Utilities, the local distribution company. According to AlaTenn, the proposed facilities will be used to transport up to 1,200 Dth of natural gas per day on a firm basis to MWP, which will be within AlaTenn's certificated level of services. AlaTenn further states that it will provide such firm transportation service on behalf of its marketing affiliate, Enbridge Marketing (US) Inc. under its existing authorized FT Rate Schedule, and within certificated entitlements. According to AlaTenn, the proposed facilities will not have an impact on AlaTenn's peak day deliveries, and that it has sufficient capacity to render the proposed transportation service without detriment or disadvantage to its existing customers. AlaTenn states that the total estimated cost of the proposed facilities is $71,490, will be totally reimbursed by MWP, and that the volumes will be transported under AlaTenn's blanket certificate issued in Docket No. CP89-2201-000.

Any questions concerning this request may be directed to Claudia Schrull, Director of Regulatory Affairs, Enbridge Pipelines (AlaTenn) Inc., 1100 Louisiana, Suite 3300, Houston, Texas 77002 at (713) 821-2045.

Any person or the Commission's staff may, within 45 days after issuance of the instant notice by the Commission, file pursuant to Rule 214 of the Commission's Procedural Rules (18 CFR 385.214) a motion to intervene or notice of intervention and, pursuant to Section 157.205 of the Regulations under the Natural Gas Act (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to Section 7 of the Natural Gas Act.

Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-22707 Filed 9-5-02; 8:45 am]

BILLING CODE 6717-01-P